DEPARTMENT OF AGRICULTURE

Agricultural Marketing Service

[Docket No. FV02-997-1 NC]

Notice of Request for Extension of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an extension to a currently approved information collection in support of the Provisions Regulating the Quality of Domestically Produced Peanuts Handled by Persons Not Subject to the Marketing Agreement No. 146. The information collection for this program expires September 30, 2002.

DATES: Comments on this notice must be received by September 24, 2002.

FOR FURTHER INFORMATION CONTACT: Caroline C. Thorpe, Marketing Specialist, Marketing Order Administration Branch, Fruit and Vegetable Programs, AMS, USDA, 1400 Independence Avenue, SW., Stop 0237, Washington, DC 20250-0237; Tel: (202) 720-8139, Fax (202) 720-8938, or E-mail: moab.docketclerk@usda.gov.

SUPPLEMENTARY INFORMATION:

Title: Provisions Regulating the Quality of Domestically Produced Peanuts Handled by Persons Not Subject to the Peanut Marketing Agreement.

OMB Number: 0581-0163.

Expiration Date of Approval: September 30, 2002.

Type of Request: Extension of a currently approved information collection.

Abstract: Public Law 101-220, enacted December 12, 1989, amended section 608b of the Agricultural Marketing Agreement of 1937 (Act), as amended (7 U.S.C. 601-674) to require that all handlers who have not signed the Peanut Marketing Agreement No. 146 (7 CFR part 998) be subject to quality, handling, and inspection requirements to the same extent and manner as are required under the Agreement. Regulations (7 CFR part 997) to implement Public Law 101-220 were issued and made effective on December 4, 1990 (55 FR 49983).

The non-signatory handling regulations ensure that peanuts intended for human consumption must meet edible quality requirements. Under the regulations, farmers stock peanuts with visible Aspergillus flavus mold (the principle source of aflatoxin) are required to be diverted to non-edible uses. The regulations also provide that shelled peanuts meeting minimum outgoing quality requirements must be chemically analyzed for aflatoxin contamination. It is estimated that 5 percent of the domestic peanut crop is marketed by non-signatory handlers.

Peanut handlers are business entities that buy raw peanuts from farmers and process them into shelled product (kernels) that is sold to manufacturers who make peanut butter and other peanut products. Under this information collection burden, peanut handlers are respondents and recordkeepers. The forms that are needed to administer the non-signer regulations are as follows:

(1) Handlers Monthly Report of Farmers Stock—Form FV-117, requests information on each handler's shelled peanuts and how those shelled peanuts are prepared for sale to manufacturers. This report is filed monthly.

(2) Monthly Report of Dispositions of Peanuts—Form FV-117-1, requests information on each handler's acquisitions and dispositions of farmers stock peanuts. Farmers stock peanuts are raw, inshell peanuts delivered by farmers to peanut handlers. This report is also filed monthly.

Estimate of Burden: Public reporting burden for this collection of information is estimated to average 0.33 hours (20 minutes) per response.

Respondents: Peanut handlers who have not signed the peanut marketing Agreement.

Estimated Number of Respondents: 33.

Estimated Number of Responses per Respondent: 24.

Estimated Total Annual Burden on Respondents: 264 hrs.

Because the information collection for this program expires on September 30, 2002, AMS is requesting an extension of OMB approval for the applicable forms.

Comments are invited on: (1) Whether the collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including through the use of appropriate automated, electronic, and mechanical or other technological collection techniques or other forms of information technology.

Comments should reference OMB No. 0581-0163 and the Peanut Import Regulation, Part 999.600, and be mailed to Docket Clerk, Fruit and Vegetable Programs, AMS, USDA, 1400 Independence Avenue, SW Stop 0237, Washington, DC 20250-0237; Tel: (202) 720-2491, Fax: (202) 720-8938; Fax: (202) 720-8938; or E-mail: moab.docketclerk@usda.gov. All comments received will be available for public inspection during regular business hours at the same address.

All responses to this notice will be summarized and included in a final request for OMB approval. All comments will become a matter of public record.

Dated: July 22, 2002.
A.J. Yates,
Administrator, Agricultural Marketing Service.

[FR Doc. 02-18981 Filed 7-25-02; 8:45 am]

BILLING CODE 3410-02-P